FEDERAL COMMUNICATIONS COMMISSION

47 CFR Part 73

[MB Docket No. 23-14; RM-11943; DA 23-23; FR ID 122971]

Television Broadcasting Services Roanoke, Virginia

AGENCY: Federal Communications Commission.

ACTION: Proposed rule.

SUMMARY: The Commission has before it a petition for rulemaking filed by Blue Ridge Public Television (Petitioner), the licensee of WBRA-TV, channel 3, Roanoke, Virginia. The Petitioner requests the substitution of channel 13 in place of channel 3 at Roanoke in the Table of Allotments.

DATES: Comments must be filed on or before February 21, 2023 and reply comments on or before March 6, 2023.

ADDRESSES: Federal Communications Commission, Office of the Secretary, 45 L Street NE, Washington, DC 20554. In addition to filing comments with the FCC, interested parties should serve counsel for the Petitioner as follows: Brad Deutsch, Esq., Foster Garvey PC, 1000 Potomac Street NW, Suite 200, Washington, DC 20007.

FOR FURTHER INFORMATION CONTACT: Joyce Bernstein, Media Bureau, at (202) 418-1647, Joyce.Bernstein@fcc.gov; or Emily Harrison, Media Bureau, at (202) 418-1665, Emily.Harrison@fcc.gov.

SUPPLEMENTARY INFORMATION: In support, the Petitioner states that the proposed channel substitution serves the public interest because it will improve viewers' access to the Station's PBS and other public television programming by improving reception and resolving low-VHF reception issues. The Petitioner further states that the Commission has recognized that VHF channels have certain propagation characteristics which may cause reception issues for some viewers, as well as the existence of environmental noise blockages affecting VHF signal strength and reception, which may vary widely by service area. According to the Petitioner, WBRA-TV's proposed move from channel 3 to channel 13 is predicted to create an area where 64,309 persons are predicted to lose service without considering the service from other PBS stations. However, when taking into account service from other PBS stations, only 94 persons are predicted to lose PBS service, a number which the Petitioner asserts the Commission has found to be de minimis.

This is a synopsis of the Commission's Notice of Proposed Rulemaking, MB Docket No. 23-14; RM-11943; DA 23-23, adopted January 10, 2023, and released January 11, 2023. The full text of this document is available for download at https://www.fcc.gov/edocs. To request materials in accessible formats (braille, large print, computer diskettes, or audio recordings), please send an email to FCC504@fcc.gov or call the Consumer and Governmental Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in section 1.1204(a) of the Commission's rules, 47 CFR 1.1204(a).

See sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.622 in paragraph (j), amend the Table of TV Allotments under Virginia by revising the entry for Roanoke to read as follows:

§ 73.622 Digital television table of allotments.

* * * * *

(j) Table of TV Allotments.

Community | Channel No.
* * * * *
Virginia
* * * * *
Roanoke | * 13, 27, 30, 34, 36
* * * * *

[FR Doc. 2023-01002 Filed 1-19-23; 8:45 am]

BILLING CODE 6712-01-P